SECURITIES AND EXCHANGE COMMISSION

[Extension Form Id 3235-0328]

Submission for OMB Review; Comment Request; Upon Written Request

Copies Available From: Securities and Exchange Commission, Office of FOIA Services, 100 F Street NE, Washington, DC 20549-2736

Notice is hereby given that, pursuant to the Paperwork Reduction Act of 1995 (44 U.S.C. 3501 et seq.) (the “Paperwork Reduction Act”), the Commission is soliciting comments on the collection of information summarized below. The Commission plans to submit this existing collection of information to the Office of Management and Budget.

Form ID (OMB Control No. 3235-0328) must be completed and filed with the Commission by all individuals, companies, and other organizations who seek access to file electronically on the Commission's primary electronic filing system, Electronic Data Gathering, Analysis and Retrieval system (“EDGAR”). Those seeking access to file on EDGAR typically include those who are required to make certain disclosures pursuant to the federal securities laws. The information provided on Form ID is an essential part of the security of EDGAR. Form ID is not a public document because it is used solely for the purpose of screening applicants and granting access to EDGAR. Form ID must be submitted whenever an applicant seeks an EDGAR identification number (Central Index Key or CIK) and access codes to file on EDGAR.

The Commission may consider, among other things, amendments to Form ID that would result in a more uniform and secure process for EDGAR access by requiring certain applicants that already have a CIK, but do not have EDGAR access codes, to submit the Form ID to obtain access to EDGAR. If these amendments are adopted, for purposes of the Paperwork Reduction Act, the estimated total number of annual Form ID filings for filers with CIKs that need to obtain access codes is approximately 404 filings.¹ Additionally, we would update the current approved estimate of the annual number of Form ID filings for new filers without CIKs (46,842 filings) by approximately 1,247 filings.²

¹ We base this estimate on the average number of filers with CIKs who have obtained access codes to EDGAR for the past three fiscal years. (524 + 359 + 330)/3 = 404.

² We base this estimate on the number of Form ID filings for filers with no CIKs for the past three fiscal years and subtracting it from the current approved estimate. ((49,269 + 48,136 + 46,861)/3) − 46,842 = 1,247.

Thus, for purposes of the Paperwork Reduction Act, the estimated total number of annual Form ID filings would increase from 46,842 filings to 48,493 filings.³ The estimate of 0.15 hours per response would stay the same, as the filers with CIKs would be filling out the same information as filers without CIKs. The estimated total annual burden would increase from 7,026 hours to 7,274 hours.⁴ The estimate that the filers are responsible for 100% of the total burden hours would stay the same.

³ 46,842 + 404 + 1,247 = 48,493.

⁴ 48,493 × 0.15 = 7,274.

In relation to the potential amendments described above, the Commission may consider amending the Form ID to delete references to applicants that do not have CIKs. If adopted, this amendment would clarify that a Form ID submission would also be required by applicants that already have CIKs but do not have EDGAR access codes. Separately, the Commission may also consider modifying Form ID to update its instructions and cross-references to Volume I of the EDGAR Filer Manual.⁵

⁵ See Adoption of Updated EDGAR Filer Manual, Proposed Collection and Comment Request for Form ID, Release No. 33-10902 (Dec. 11, 2020) [86 FR 7968] (Feb. 3, 2021)] (allowing applicants to EDGAR the option of obtaining electronic notarizations and remote online notarizations). The Commission also amended 17 CFR 232.10(b) to remove the manual signature requirement for EDGAR access requests to allow electronic signature requests. Id. The methods of notarization provide an efficient means of authenticating signatures in connection with requests for EDGAR access.

Other than the potential amendments to require certain applicants that already have a CIK, but do not have EDGAR access codes, to submit the Form ID, we do not believe that these additional amendments to the Form ID would make any substantive modifications to any existing collection of information requirements or impose any new substantive recordkeeping or information collection requirements within the meaning of the Paperwork Reduction Act.

An agency may not conduct or sponsor, and a person is not required to respond to, a collection of information unless it displays a currently valid control number.

The public may view background documentation for this information collection at the following website: www.reginfo.gov. Find this particular information collection by selecting “Currently under 30-day Review—Open for Public Comments” or by using the search function. Written comments and recommendations for the proposed information collection should be sent within 30 days of publication of this notice to (i) www.reginfo.gov/public/do/PRAMain and (ii) David Bottom, Director/Chief Information Officer, Securities and Exchange Commission, c/o Cynthia Roscoe, 100 F Street NE, Washington, DC 20549, or by sending an email to: PRA_Mailbox@sec.gov.

Dated: February 24, 2021.
J. Matthew DeLesDernier,
Assistant Secretary.

[FR Doc. 2021-04139 Filed 2-26-21; 8:45 am]

BILLING CODE 8011-01-P